DEPARTMENT OF COMMERCE

National Oceanic and Atmospheric Administration

RIN 0648-XA963

Marine Mammals; File No. 15142

AGENCY: National Marine Fisheries Service (NMFS), National Oceanic and Atmospheric Administration (NOAA), Commerce.

ACTION: Notice; receipt of application.

SUMMARY: Notice is hereby given that Colleen Reichmuth, Ph.D., University of California at Santa Cruz, Long Marine Laboratory, 100 Shaffer Road, Santa Cruz, CA, has applied in due form for a permit to take bearded seals (Erignathus barbatus) for research purposes.

DATES: Written, telefaxed, or email comments must be received on or before March 1, 2012.

ADDRESSES: The application and related documents are available for review by selecting “Records Open for Public Comment” from the Features box on the Applications and Permits for Protected Species (APPS) home page, https://apps.nmfs.noaa.gov, and then selecting File No. 15142 from the list of available applications.

These documents are also available upon written request or by appointment in the following offices:

Permits and Conservation Division, Office of Protected Resources, NMFS, 1315 East-West Highway, Room 13705, Silver Spring, MD 20910; phone (301) 427-8401; fax (301) 713-0376;

Alaska Region, NMFS, P.O. Box 21668, Juneau, AK 99802-1668; phone (907) 586-7221; fax (907) 586-7249; and

Southwest Region, NMFS, 501 West Ocean Blvd., Suite 4200, Long Beach, CA 90802-4213; phone (562) 980-4001; fax (562) 980-4018.

Written comments on this application should be submitted to the Chief, Permits and Conservation Division, at the address listed above. Comments may also be submitted by facsimile to (301) 713-0376, or by email to NMFS.Pr1Comments@noaa.gov. Please include “File No. 15142” in the subject line of the email comment.

Those individuals requesting a public hearing should submit a written request to the Chief, Permits and Conservation Division at the address listed above. The request should set forth the specific reasons why a hearing on this application would be appropriate.

FOR FURTHER INFORMATION CONTACT: Amy Sloan or Tammy Adams, (301) 427-8401.

SUPPLEMENTARY INFORMATION: The subject permit is requested under the authority of the Marine Mammal Protection Act of 1972, as amended (MMPA; 16 U.S.C. 1361 et seq.), and the regulations governing the taking and importing of marine mammals (50 CFR part 216).

The applicant proposes to collect from the wild up to two bearded seals in the Northwest Arctic Borough of Alaska for a long-term behavioral study at Long Marine Laboratory in Santa Cruz, CA. Up to four bearded seals may be captured temporarily in order to evaluate their suitability for participation in research. Captured seals deemed unsuitable for the long-term study will be released at the capture site. Up to two bearded seals deemed suitable for captive research will be transported from Kotzebu, AK to Santa Cruz, CA. Incidental harassment of up to one ringed seal (Phoca hispida) and one spotted seal (Phoca larga) may occur during capture activities. Authorization for mortality of two bearded seals is requested for the duration of the permit. The applicant requests the permit be valid from October 1, 2012 to December 31, 2013. After a quarantine period, the research to be conducted at Long Marine Laboratory will occur under existing NMFS Permit No. 14535-01 (75 FR 58352) and will provide quantitative measurements of the amphibious hearing capabilities of bearded seals, which are needed to improve understanding of the potential effects of expected increases in anthropogenic activities in polar habitats.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: January 25, 2012.
P. Michael Payne,
Chief, Permits and Conservation Division, Office of Protected Resources, National Marine Fisheries Service.

[FR Doc. 2012-2084 Filed 1-30-12; 8:45 am]

BILLING CODE 3510-22-P